DEPARTMENT OF COMMERCE

National Oceanic and Atmospheric Administration

RIN 0648-XF22

Marine Mammals; File No. 775-1875

AGENCY: National Marine Fisheries Service (NMFS), National Oceanic and Atmospheric Administration (NOAA), Commerce.

ACTION: Notice; issuance of permit amendment.

SUMMARY: Notice is hereby given that NMFS Northeast Fisheries Science Center (NEFSC), Woods Hole, MA, has been issued a major amendment to Permit No. 775-1875 for research on marine mammals.

ADDRESSES: The permit amendment and related documents are available for review upon written request or by appointment in the following office(s):

Permits, Conservation and Education Division, Office of Protected Resources, NMFS, 1315 East-West Highway, Room 13705, Silver Spring, MD 20910; phone (301)713-2289; fax (301)713-0376; and

Northeast Region, NMFS, 55 Great Republic Drive, Gloucester, MA 01930; phone (978)281-9300; fax (978)281-9333.

FOR FURTHER INFORMATION CONTACT: Carrie Hubard or Tammy Adams, (301)713-2289.

SUPPLEMENTARY INFORMATION: On April 14, 2009, notice was published in the Federal Register (74 FR 17165) that a request for an amendment to Permit No. 775-1875 to conduct research on harbor seals (Phoca vitulina) and gray seals (Halichoerus grypus) on rookeries and haulouts in the northeastern U.S. had been submitted by the above-named applicant. The requested permit amendment has been issued under the authority of the Marine Mammal Protection Act of 1972, as amended (16 U.S.C. 1361 et seq.) and the regulations governing the taking and importing of marine mammals (50 CFR part 216).

The amended permit authorizes an increase in the number of harbor seals and gray seals that may be harassed incidental to scat collection from 5,000 and 2,000 respectively, to 20,000 per species annually. It also authorizes collection of an additional 30 harbor seal pup carcasses per year found during research activities.

In compliance with the National Environmental Policy Act of 1969 (42 U.S.C. 4321 et seq.), an environmental assessment (EA) was prepared analyzing the effects of the permitted activities on the human environment. Based on the analyses in the EA, NMFS determined that issuance of the permit would not significantly impact the quality of the human environment and that preparation of an environmental impact statement was not required. That determination is documented in a Finding of No Significant Impact, signed on July 7, 2009.

Dated: July 8, 2009.
Tammy C. Adams,
Acting Chief, Permits, Conservation and Education Division, Office of Protected Resources, National Marine Fisheries Service.

[FR Doc. E9-16673 Filed 7-13-09; 8:45 am]

BILLING CODE 3510-22-S